DEPARTMENT OF HEALTH AND HUMAN SERVICES

National Institutes of Health

Center for Scientific Review; Amended Notice of Meeting

Notice is hereby given of a change in the meeting of the Nursing and Related Clinical Sciences Study Section, October 10, 2013, 08:00 a.m. to October 11, 2013, 06:00 p.m., Hyatt Regency Bethesda, One Bethesda Metro Center, 7400 Wisconsin Avenue, Bethesda, MD 20814, which was published in the Federal Register on September 12, 2013, 78 FR 56239.

The meeting will be held at the Residence Inn Capital View, 2850 South Potomac Ave., Arlington, VA 22202. The meeting will start on November 21, 2013 at 08:00 a.m. and end on November 22, 2013 at 05:00 p.m. The meeting is closed to the public.

Dated: October 30, 2013.
David Clary,
Program Analyst, Office of Federal Advisory Committee Policy.

[FR Doc. 2013-26430 Filed 11-4-13; 8:45 am]

BILLING CODE 4140-01-P